DEPARTMENT OF HOMELAND SECURITY

U.S. Citizenship and Immigration Services

[CIS No. 2686-21; DHS Docket No. USCIS-2021-0005]

RIN 1615-ZB88

Designation of Burma (Myanmar) for Temporary Protected Status

AGENCY: U.S. Citizenship and Immigration Services (USCIS), Department of Homeland Security (DHS).

ACTION: Notice of Temporary Protected Status (TPS) designation.

SUMMARY: Through this Notice, DHS announces that the Secretary of Homeland Security is designating Burma for TPS for 18 months, effective May 25, 2021, through November 25, 2022. Under the Immigration and Nationality Act (INA), the Secretary is authorized to designate a foreign state (or any part thereof) for TPS upon finding that extraordinary and temporary conditions in the foreign state prevent its nationals from returning safely, unless permitting the foreign state's nationals to remain temporarily in the United States is contrary to the national interest of the United States. Regardless of an individual's country of birth, this designation allows eligible Burmese nationals (and individuals having no nationality who last habitually resided in Burma) who have continuously resided in the United States since March 11, 2021, and have been continuously physically present in the United States since May 25, 2021 to apply for TPS. This Notice also describes the other eligibility criteria applicants must meet. Individuals who believe they may qualify for TPS under this designation may apply within the 180-day registration period that begins on May 25, 2021, and ends on November 22, 2021. They may also apply for TPS-related Employment Authorization Documents (EADs) and for travel authorization.

DATES: The designation of Burma for TPS is effective on May 25, 2021 and will remain in effect for 18 months, through November 25, 2022.

The 180-day registration period for eligible individuals to submit TPS applications begins May 25, 2021, and will remain in effect through November 22, 2021.

FOR FURTHER INFORMATION CONTACT:

• You may contact Maureen Dunn, Chief, Humanitarian Affairs Division, Office of Policy and Strategy, U.S. Citizenship and Immigration Services, Department of Homeland Security, by mail at 5900 Capital Gateway Drive, Camp Springs, MD 20746, or by phone at 800-375-5283.

• For further information on TPS, including guidance on the registration process and additional information on eligibility, please visit the USCIS TPS web page at uscis.gov/tps. You can find specific information about Burma's TPS designation by selecting “Burma” from the menu on the left side of the TPS web page.

• If you have additional questions about TPS, please visit uscis.gov/tools. Our online virtual assistant, Emma, can answer many of your questions and point you to additional information on our website. If you are unable to find your answers there, you may also call our USCIS Contact Center at 800-375-5283 (TTY 800-767-1833).

• Applicants seeking information about the status of their individual cases may check Case Status Online, available on the USCIS website at uscis.gov, or visit the USCIS Contact Center at uscis.gov/contactcenter.

• Further information will also be available at local USCIS offices upon publication of this Notice.

SUPPLEMENTARY INFORMATION:

Table of Abbreviations

BIA—Board of Immigration Appeals

CFR—Code of Federal Regulations

DHS—U.S. Department of Homeland Security

DOS—U.S. Department of State

EAD—Employment Authorization Document

FNC—Final Nonconfirmation

Form I-765—Application for Employment Authorization

Form I-797—Notice of Action (Approval Notice)

Form I-821—Application for Temporary Protected Status

Form I-9—Employment Eligibility Verification

Form I-912—Request for Fee Waiver

Form I-94—Arrival/Departure Record

FR—Federal Register

Government—U.S. Government

IER—U.S. Department of Justice, Civil Rights Division, Immigrant and Employee Rights Section

IJ—Immigration Judge

INA—Immigration and Nationality Act

SAVE—USCIS Systematic Alien Verification for Entitlements Program

Secretary—Secretary of Homeland Security

TNC—Tentative Nonconfirmation

TPS—Temporary Protected Status

TTY—Text Telephone

USCIS—U.S. Citizenship and Immigration Services

U.S.C.—United States Code

Purpose of This Action (TPS)

Through this Notice, DHS sets forth procedures necessary for eligible nationals of Burma (or individuals having no nationality who last habitually resided in Burma) to submit an initial registration application under the designation of Burma for TPS and apply for an EAD. Under the designation, individuals must submit an initial Application for Temporary Protected Status (Form I-821) and they may also submit an Application for Employment Authorization (Form I-765) during the 180-day initial registration period that runs from May 25, 2021 through November 22, 2021. In addition to demonstrating continuous residence in the United States since March 11, 2021, and meeting other eligibility criteria, initial applicants for TPS under this designation must demonstrate that they have been continuously physically present in the United States since May 25, 2021, the effective date of this designation of Burma, in order for USCIS to grant them TPS. USCIS estimates that approximately 1,600 individuals are eligible to apply for TPS under the designation of Burma.

What is Temporary Protected Status (TPS)?

• TPS is a temporary immigration status granted to eligible nationals of a foreign state designated for TPS under the INA, or to eligible individuals without nationality who last habitually resided in the designated foreign state.

• During the TPS designation period, TPS beneficiaries are eligible to remain in the United States, may not be removed, and are authorized to obtain EADs so long as they continue to meet the requirements of TPS.

• TPS beneficiaries may also apply for and be granted travel authorization as a matter of discretion. Upon return from such authorized travel, TPS beneficiaries retain the same immigration status they had before the travel.

• The granting of TPS does not result in or lead to lawful permanent resident status.

• To qualify for TPS, beneficiaries must meet the eligibility standards at INA section 244(c)(1)-(2), 8 U.S.C. 1254a(c)(1)-(2).

• When the Secretary terminates a foreign state's TPS designation, beneficiaries return to one of the following:

○ The same immigration status or category that they maintained before TPS, if any (unless that status or category has since expired or been terminated); or

○ Any other lawfully obtained immigration status or category they received while registered for TPS, as long as it is still valid beyond the date TPS terminates.

Why was Burma designated for TPS?

Overview

On February 1, 2021, the Burmese military perpetrated a coup, deposing the democratically elected government and declaring a temporary one-year state of emergency, after which it has said it will hold elections. The military is responding with increasing oppression and violence to demonstrations and protests, resulting in large-scale human rights abuses, including arbitrary detentions and deadly force against unarmed individuals. The coup has triggered a humanitarian crisis, including the disruption of communications and limited access to medical care. The Burmese military has a clear and well-documented history of committing atrocities against the people of Burma, and again, the military is committing brutal violence against the Burmese people, including young children.

Political Crisis

On February 1, 2021, the Burmese military seized power in a coup against the democratically elected government led by President Win Myint and State Counsellor Aung San Suu Kyi, who were taken into custody along with other leaders of their party, the National League for Democracy (NLD).¹ Immediately after the coup, there were disruptions of internet and cellular service, state television went off air, security checkpoints were set up in major cities, and banks suspended services. The military has imposed a curfew across the country, from 8 p.m. until 6 a.m.² and restricted internet and telecommunication services across the country. The military regime has also blocked social media sites such as Facebook and Twitter, detained journalists for doing their work, and is drafting a cybersecurity law that will further restrict online freedom of expression.³ These disruptions, limitations, and detentions prevent persons in Burma from obtaining timely safety information.

¹ “Myanmar military seizes power, detains elected leader Aung San Suu Kyi,” Reuters, Feb. 1, 2021.

² “Myanmar's military stages coup d'etat: Live news,” Al-Jazeera, Feb. 1, 2021.

³ “Myanmar coup: Teachers join growing protests against military”, BBC News, Feb. 5. 2021; Myanmar: “A coup is worse than covid. I've lived through three”, The Economist, Feb. 5. 2021; Report of the Special Rapporteur on the situation of human rights in Myanmar, Thomas H. Andrews, U.N. Human Rights Council, Mar. 4, 2021.

Public protests have taken place in various parts of the country, including some that occur on a nightly basis and some with thousands of participants, in spite of the government's continued blocking of social media websites.⁴ Since February 5, a grassroots peaceful Civil Disobedience Movement (CDM), spearheaded by political leaders, civil society activists, youth, government bureaucrats, and health officials, has spread in cities across the country.⁵ The protest sizes ebb and flow, reaching numbers of more than 1 million people on February 22. Airport, bank, and health care workers have gone on strike.⁶

⁴ “Myanmar coup: Teachers join growing protests against military”, BBC News, Feb. 5. 2021; Myanmar: “A coup is worse than covid. I've lived through three”, The Economist, Feb. 5. 2021.

⁵ “Myanmar's Military Arrests Doctors for Joining and Supporting Civil Disobedience Movement”, The Irrawaddy, Feb. 12, 2021; Report of the Special Rapporteur on the situation of human rights in Myanmar, Thomas H. Andrews, U.N. Human Rights Council, Mar. 4, 2021.

⁶ “Myanmar grinds to a halt as hundreds of thousands strike against military coup”, Washington Post, Feb. 22, 2021; Report of the Special Rapporteur on the situation of human rights in Myanmar, Thomas H. Andrews, U.N. Human Rights Council, Mar. 4, 2021, Feb. 22, 2021; Report of the Special Rapporteur on the situation of human rights in Myanmar, Thomas H. Andrews, U.N. Human Rights Council, Mar. 4, 2021.

To curb protests, on February 8, the military declared a curfew in 36 townships and major cities, dramatically expanding the ability of security forces to arbitrarily arrest and detain individuals, search homes, and use force against people congregating peacefully in groups of five or more.⁷ In addition, the military has released more than 20,000 convicted prisoners in what some civil society contacts report is an apparent attempt to intimidate peaceful protestors and create disorder and fear, thus enabling further military crackdowns.⁸

⁷ “Myanmar's military stages coup d'etat: Live news”, Al-Jazeera, Feb. 1, 2021; Report of the Special Rapporteur on the situation of human rights in Myanmar, Thomas H. Andrews, U.N. Human Rights Council, Mar. 4, 2021.

⁸ “Report of the Special Rapporteur on the situation of human rights in Myanmar”, Thomas H. Andrews, U.N. Human Rights Council, Mar. 4, 2021.

Criminal charges against State Counsellor Aung San Suu Kyi followed two days after the coup. Those charges, purported to relate to violations of import law, were “widely seen as a pretext to keep her detained” ⁹ and to disqualify and/or prevent her for keeping office as an elected official. She was accused of new criminal charges on April 12.¹⁰

⁹ “Myanmar's Coup, Explained,” New York Times, Feb. 5, 2020.

¹⁰ “Myanmar's Junta Levies New Charge Against Aung San Suu Kyi,” Voice of America News, April 12, 2021.

On March 3, the United Nations Special Envoy for Burma, Christine Schraner Burgener, warned that the situation in Burma challenges “the stability of the region” and could lead to a “real war” and stressed that “every tool available was now needed to end the situation” and that “the unity of the international community was essential.” ¹¹

¹¹ “Stability of the region' hangs on Myanmar, declares UN Special Envoy,” UN News, https://news.un.org/en/story/2021/03/1086332, UN News, March 3, 2021.

Human Rights Abuses

Violence Committed by Police and Military Forces

Since the coup, police and military forces steadily escalated their use of force, resulting in the injuring and killing of multiple individuals. There are multiple credible accounts of heavily armed police and military deploying to areas where demonstrations were taking place, firing into crowds, and killing and injuring demonstrators. ¹² Police and military personnel have conducted nighttime raids, resulting in arrests and killings of individuals who tried to stop individuals from entering their communities. ¹³ On March 30, Secretary of State Antony Blinken called the military's actions in Burma “reprehensible” and described “increasingly disturbing and even horrifying violence”.¹⁴ On April 21, Secretary Blinken stated that the military regime “has intensified its violent crackdown, killing more than 650 people, including many children, and detaining more than 3,200 others since February 1.” ¹⁵

¹² See, e.g., “Mass protests and funeral follow deadly shootings in Myanmar,” NBC News/Associated Press, Feb. 21, 2021; Report of the Special Rapporteur on the situation of human rights in Myanmar, Thomas H. Andrews, U.N. Human Rights Council, Mar. 4, 2021.

¹³ See, e.g., “Myanmar security forces open fire on protesters, killing at least 18, according to U.N.,” Washington Post, Feb. 28, 2021; Myanmar residents on night patrol as coup tensions deepen, Agence-France Press, Feb. 15, 2021.

¹⁴ “U.S.' Blinken calls for global companies to reconsider financial support to Myanmar's military,” Reuters, March 30, 2021.

¹⁵ “Press Statement of Antony J. Blinken, Secretary of State, on Imposing Sanctions on Two Burmese State-Owned Enterprises” (April 21, 2021).

Security forces killed over 100 people on March 27 alone as the military celebrated its annual Armed Forces Day, the single bloodiest day since the coup.¹⁶ On April 9, the junta's armed forces killed some 82 people in the city of Bago in a violent suppression of protests.¹⁷ The military has also killed at least 43 children since February 1, according to rights organization Save the Children.¹⁸

¹⁶ “Army Fires at funeral as Myanmar mourns day of `mass murder,' ” Aljazeera, March 28, 2021, available at https://www.aljazeera.com/news/2021/3/28/12-defence-chiefs-condemn-myanmar-army-after-day-of-mass-murder.

¹⁷ “Witnesses to Bago killings describe relentless military onslaught against Myanmar civilian population,” CNN, April 16, 2021, available at https://www.cnn.com/2021/04/16/asia/bago-mass-killing-myanmar-civilians-intl-hnk/index.html.

¹⁸ “Myanmar coup: More than 40 children killed by military, rights group says,” BBC News, April 1, 2021, available at https://www.bbc.com/news/world-asia-56600292.

Arbitrary Arrest and Detention

The U.N. Human Rights Office advised that, since the beginning of the coup, the police and security forces have targeted an “ever-increasing number of opposition voices and demonstrators by arresting political officials, activists, civil society members, journalists and medical professionals.” ¹⁹

¹⁹ “UN Human Rights Office urges military to halt violence against peaceful protestors across Myanmar,” https://bangkok.ohchr.org/6109-2/, February 28, 2021.

Danger to Vulnerable Groups

Human Rights Watch has expressed concern that military control of the government will further endanger human rights for Rohingya Muslims, who have been denied citizenship and suffered oppression for decades, and that “serious threats lay ahead for activists, journalists, ethnic minorities and others who have long been targets of the military's oppressive campaigns.” ²⁰

²⁰ “Serious Threats' Ahead: Human Rights Experts Voice Concern for Rohingya Muslims in Myanmar Following Military Coup,” Frontline, https://www.pbs.org/wgbh/frontline/article/human-rights-experts-concern-rohingya-muslims-myanmar-january-31-military-coup/, February 2, 2021.

The regime has also stepped up the violence in ethnic minority regions. In late March, the military escalated its offensive in Karen State, launching aerial attacks that have driven more than 200,000 residents from their homes to seek shelter in the border regions.²¹ The military has also intensified fighting in Kachin State, after the Kachin Independence Organization (KIO) opposition to the coup and the killing of protestors.²²

²¹ “Myanmar military's offensive against Karen people,” Vatican News, https://www.vaticannews.va/en/world/news/2021-04/myanmar-military-strikes-karen-people-displaced.html.

²² “Myanmar Military Suffers Heavy Casualties in Attacks by Ethnic Armed Groups in Kachin State, The Irrawaddy, https://www.irrawaddy.com/news/burma/myanmar-military-suffers-heavy-casualties-attacks-ethnic-armed-group-kachin-state.html.

Humanitarian Crisis

The Burmese military's history of committing atrocities to maintain and expand its control in the country have raised concerns about the possibility of escalating violence, new displacement, and ongoing and increased obstacles to the provision of humanitarian assistance. In response to past movements against military rule, in 1988 and 2007, the military committed massacres against individuals.²³ Burma's coup on February 1, 2021, has triggered a humanitarian crisis, including the disruption of communications and limited access to medical care. The impacts include, among other things, the closure of banks and interruptions of payments and cash withdrawal systems, as well as a reported increase in prices of basic commodities, including food, construction materials and fuel in some areas.²⁴ The U.N. Office for the Coordination of Humanitarian Affairs (OCHA) reports the situation has impacted the ability of partners to respond to the needs of vulnerable communities and displaced persons in violence-affected areas. OCHA indicated that about 945,000 people were targeted for such assistance in 2021.²⁵ Among those in need of humanitarian assistance are over 330,000 people who remain internally displaced (IDPs) within Burma.²⁶ This includes 126,000 IDPs in camps since the 2012 violence in Rakhine State and, in northern Shan State, around 2,300 people newly displaced in Kyaukme, Namtu and Hsipaw townships in February due to armed clashes between the MAF and ethnic armed organizations or between armed organizations.²⁷ OCHA reports concerns for its own staff safety and security as well.²⁸

²³ “The shooting starts,” The Economist, Mar. 6, 2021.

²⁴ “Myanmar Humanitarian Update No. 4,” https://reliefweb.int/report/myanmar/myanmar-humanitarian-update-no-4-25-february-2021, Feb. 25, 2021.

²⁵ “Relief programmes hit by ongoing crisis in Myanmar, UN humanitarian office says,” U.N. News, Feb. 26, 2021.

²⁶ “Myanmar: Humanitarian Update No. 4, U.N. Office for the Coordination of Humanitarian Affairs,” Feb. 25, 2021.

²⁷ “Myanmar Humanitarian Update No. 4,” https://reliefweb.int/report/myanmar/myanmar-humanitarian-update-no-4-25-february-2021, Feb. 25, 2021.

²⁸ “Myanmar Humanitarian Update No. 4,” https://reliefweb.int/report/myanmar/myanmar-humanitarian-update-no-4-25-february-2021, Feb. 25, 2021.

What authority does the Secretary have to designate Burma for TPS?

Section 244(b)(1) of the INA, 8 U.S.C. 1254a(b)(1), authorizes the Secretary,²⁹ after consultation with appropriate agencies of the U.S. Government, to designate a foreign state (or part thereof) for TPS if the Secretary determines that certain country conditions exist. The decision to designate any foreign state (or part thereof) is a discretionary decision, and there is no judicial review of any determination with respect to the designation, or termination of or extension of a designation. See INA section 244(b)(5)(A); 8 U.S.C. 1254a(b)(5)(A). It is then in the Secretary's discretion to grant TPS to eligible nationals of that foreign state (or individuals having no nationality who last habitually resided in the designated foreign state). See INA section 244(a)(1)(A), 8 U.S.C. 1254a(a)(1)(A).

²⁹ INA § 244(b)(1) prescribes this power to the Attorney General. Congress transferred this authority from the Attorney General to the Secretary of Homeland Security See Homeland Security Act of 2002, Public Law 107-296, 116 Stat. 2135.

At least 60 days before the expiration of a foreign state's TPS designation or extension, the Secretary, after consultation with appropriate Government agencies, must review the conditions in the foreign state designated for TPS to determine whether the conditions for the TPS designation continue to be met. See INA section 244(b)(3)(A), 8 U.S.C. 1254a(b)(3)(A). If the Secretary does not determine that the foreign state no longer meets the conditions for TPS designation, the designation will be extended for an additional period of 6 months or, in the Secretary's discretion, 12 or 18 months. See INA section 244(b)(3)(A), (C), 8 U.S.C. 1254a(b)(3)(A), (C). If the Secretary determines that the foreign state no longer meets the conditions for TPS designation, the Secretary must terminate the designation. See INA section 244(b)(3)(B), 8 U.S.C. 1254a(b)(3)(B).

Notice of the Designation of Burma for TPS

By the authority vested in me as Secretary under INA section 244, 8 U.S.C. 1254a, I have determined, after consultation with the appropriate U.S. Government agencies, the statutory conditions supporting Burma's designation for TPS on the basis of extraordinary and temporary conditions are met. See INA section 244(b)(1)(C), 8 U.S.C. 1254a(b)(1)(C). I estimate approximately 1,600 individuals are eligible to apply for TPS under the designation of Burma. On the basis of this determination, I am designating Burma for TPS for 18 months, from May 25, 2021 through November 25, 2022. See INA section 244(b)(1)(C) and (b)(2); 8 U.S.C. 1254a(b)(1)(C), and (b)(2).

Alejandro N. Mayorkas,
Secretary, U.S. Department of Homeland Security.

Eligibility and Employment Authorization for TPS

Required Application Forms and Application Fees To Register for TPS

To register for TPS based on the designation of Burma, you must submit an Application for Temporary Protected Status (Form I-821) and pay the filing fee (or submit a Request for a Fee Waiver (Form I-912)). You may be required to pay the biometric services fee. Please see additional information under the “Biometric Services Fee” section of this Notice.

Although not required to do so, if you want to obtain an EAD valid through November 25, 2022, you must file an Application for Employment Authorization (Form I-765) and pay the Form I-765 fee (or submit a Request for a Fee Waiver (Form I-912)). If you do not want to request an EAD now, you may also file Form I-765 at a later date and pay the fee (or request a fee waiver), provided that you still have TPS or a pending TPS application.

For more information on the application forms and fees for TPS, please visit the USCIS TPS web page at uscis.gov/tps. Fees for the Form I-821, the Form I-765, and biometric services are also described in 8 CFR 103.7(b)(1)(i).

Biometric Services Fee

Biometrics (such as fingerprints) are required for all applicants 14 years of age and older. Those applicants must submit a biometric services fee. As previously stated, if you are unable to pay the biometric services fee, you may complete a Request for Fee Waiver (Form I-912). For more information on the application forms and fees for TPS, please visit the USCIS TPS web page at uscis.gov/tps. If necessary, you may be required to visit an Application Support Center to have your biometrics captured. For additional information on the USCIS biometric screening process, please see the USCIS Customer Profile Management Service Privacy Impact Assessment, available at dhs.gov/privacy.

Refiling a TPS Registration Application After Receiving a Denial of a Fee Waiver Request

You should file as soon as possible within the 180-day registration period so USCIS can process your application and issue any EAD promptly, if you requested one. Properly filing early will also allow you time to refile your application before the deadline, should USCIS deny your fee waiver request. If, however, you receive a denial of your fee waiver request and are unable to refile by the registration deadline, you may still refile your Form I-821 with the biometric services fee. However, you are urged to refile within 45 days of the date on any USCIS fee waiver denial notice. See INA section 244(c)(1)(A)(iv); 8 U.S.C. 1254a(c)(1)(A)(iv); 8 CFR 244.6(a). Following denial of your fee waiver request, you may also refile your Form I-765, with fee, either with your Form I-821 or at a later time, if you choose.

Note: Although an initial applicant for TPS must pay the Form I-821 filing fee and those applicants age 14 or older must also pay the biometric services fee, unless granted a fee waiver, you may decide to wait to request an EAD. Therefore, you do not have to file the Form I-765 or pay the associated Form I-765 fee (or request a fee waiver) at the time of registration, and could wait to seek an EAD until after USCIS has approved your TPS registration application. If you choose to do this, to register for TPS you would only need to file the Form I-821 with the $50 filing fee and with the biometric services fee, if applicable (or request a fee waiver).

Mailing Information

Mail your application for TPS to the proper address in Table 1.

Table 1—Mailing Addresses

Mail your completed Application for Temporary Protected Status (Form I-821) and Application for Employment Authorization (Form I-765) and supporting documentation to the proper address in Table 1.

Table 1—Mailing Addresses
If . . . | Mail to . . .
You are applying through the U.S. Postal Service | U.S. Citizenship and Immigration Services, Attn: TPS Burma, P.O. Box 6943, Chicago, IL 60680-6943.
You are using FedEx, UPS, or DHL | U.S. Citizenship and Immigration Services, Attn: TPS Burma (Box 6943), 131 S Dearborn St. 3rd Floor, Chicago, IL 60603-5517.

While Burma is designated for TPS, if you are granted TPS by an immigration judge (IJ) or the Board of Immigration Appeals (BIA) and you wish to request an EAD or are registering for the first time following a grant of TPS by an IJ or the BIA, please mail your application to the appropriate mailing address in Table 1. When registering and requesting an EAD based on an IJ/BIA grant of TPS, please include a copy of the IJ or BIA order granting you TPS with your application. This will help USCIS to verify your grant of TPS and process your application.

Supporting Documents

The filing instructions on Form I-821 list all the documents needed to establish eligibility for TPS. You may also find information on the acceptable documentation and other requirements for applying or registering for TPS on the USCIS website at uscis.gov/tps under “Burma.”

General Employment-Related Information for TPS Applicants and Their Employers

How can I obtain information on the status of my TPS and EAD request?

To get case status information about your TPS application, as well as the status of your TPS-based EAD request, you can check Case Status Online at uscis.gov, or visit the USCIS Contact Center at uscis.gov/contactcenter. If your Form I-821 or Form I-765 has been pending for more than 90 days, and you still need assistance, you may ask a question about your case online at egov.uscis.gov/e-request/Intro.do or call the USCIS Contact Center at 800-375-5283 (TTY 800-767-1833).

When hired, what documentation may I show to my employer as evidence of identity and employment authorization when completing Form I-9?

You can find the Lists of Acceptable Documents on the third page of Form I-9, Employment Eligibility Verification, as well as the Acceptable Documents web page at uscis.gov/i-9-central/acceptable-documents. Employers must complete Form I-9 to verify the identity and employment authorization of all new employees. Within three days of hire, employees must present acceptable documents to their employers as evidence of identity and employment authorization to satisfy Form I-9 requirements.

You may present any document from List A (which provides evidence of both identity and employment authorization) or one document from List B (which provides evidence of your identity) together with one document from List C (which provides evidence of employment authorization), or you may present an acceptable receipt as described in the Form I-9 Instructions. Employers may not reject a document based on a future expiration date. You can find additional information about Form I-9 on the I-9 Central web page at uscis.gov/I-9Central. An EAD is an acceptable document under List A.

If I have an EAD based on another immigration status, can I obtain a new TPS-based EAD?

Yes, if you are eligible for TPS, you can obtain a new EAD, regardless of whether you already have an EAD or work authorization based on another immigration status. If you want to obtain a TPS-based EAD valid through November 25, 2022, then you must file Form I-765, Application for Employment Authorization, and pay the associated fee (unless USCIS grants your fee waiver request).

Can my employer require that I provide any other documentation, such as evidence of my status or proof of my Burmese citizenship, for Form I-9 completion?

No. When completing Form I-9, employers must accept any documentation you choose to present from the Form I-9 Lists of Acceptable Documents that reasonably appears to be genuine and that relates to you, or an acceptable List A, List B, or List C receipt. Employers need not reverify List B identity documents. Employers may not request proof of Burmese citizenship when completing Form I-9 for new hires or reverifying the employment authorization of current employees. Refer to the “Note to Employees” section of this Federal Register notice for important information about your rights if your employer rejects lawful documentation, requires additional documentation, or otherwise discriminates against you based on your citizenship or immigration status, or your national origin.

Note to All Employers

Employers are reminded that the laws requiring proper employment eligibility verification and prohibiting unfair immigration-related employment practices remain in full force. This Federal Register notice does not supersede or in any way limit applicable employment verification rules and policy guidance, including those rules setting forth reverification requirements. For general questions about the employment eligibility verification process, employers may call USCIS at 888-464-4218 (TTY 877-875-6028) or email USCIS at I-9Central@uscis.dhs.gov. USCIS accepts calls and emails in English and many other languages. For questions about avoiding discrimination during the employment eligibility verification process (Form I-9 and E-Verify), employers may call the U.S. Department of Justice, Civil Rights Division, Immigrant and Employee Rights Section (IER) Employer Hotline at 800-255-8155 (TTY 800-237-2515). IER offers language interpretation in numerous languages. Employers may also email IER at IER@usdoj.gov.

Note to Employees

For general questions about the employment eligibility verification process, employees may call USCIS at 888-897-7781 (TTY 877-875-6028) or email USCIS at I-9Central@uscis.dhs.gov. USCIS accepts calls in English, Spanish and many other languages. Employees or job applicants may also call the IER Worker Hotline at 800-255-7688 (TTY 800-237-2515) for information regarding employment discrimination based upon citizenship, immigration status, or national origin, including discrimination related to Form I-9 and E-Verify. The IER Worker Hotline provides language interpretation in numerous languages.

To comply with the law, employers must accept any document or combination of documents from the Lists of Acceptable Documents if the documentation reasonably appears to be genuine and to relate to the employee, or an acceptable List A, List B, or List C receipt under DHS regulations, and as described in the Form I-9 Instructions. Employers may not require extra or additional documentation beyond what is required for Form I-9 completion. Further, employers participating in E-Verify who receive an E-Verify case result of “Tentative Nonconfirmation” (TNC) must promptly inform employees of the TNC and give such employees an opportunity to contest the TNC. A TNC case result means that the information entered into E-Verify from Form I-9 differs from records available to DHS.

Employers may not terminate, suspend, delay training, withhold or lower pay, or take any adverse action against an employee because of the TNC while the case is still pending with E-Verify. A Final Nonconfirmation (FNC) case result is received when E-Verify cannot confirm an employee's employment eligibility. An employer may terminate employment based on a case result of FNC. Work-authorized employees who receive an FNC may call USCIS for assistance at 888-897-7781 (TTY 877-875-6028). For more information about E-Verify-related discrimination or to report an employer for discrimination in the E-Verify process based on citizenship, immigration status, or national origin, contact IER's Worker Hotline at 800-255-7688 (TTY 800-237-2515). Additional information about proper nondiscriminatory Form I-9 and E-Verify procedures is available on the IER website at justice.gov/ier and the USCIS and E-Verify websites at uscis.gov/i-9-central and e-verify.gov.

Note Regarding Federal, State, and Local Government Agencies (Such as Departments of Motor Vehicles)

For Federal purposes, individuals approved for TPS may show their Form I-797, Notice of Action, indicating approval of their Form I-821 application, or their A12 or C19 EAD to prove that they have TPS. However, while Federal Government agencies must follow the guidelines laid out by the Federal Government, state and local government agencies establish their own rules and guidelines when granting certain benefits. Each state may have different laws, requirements, and determinations about what documents they require you to provide to prove eligibility for certain benefits. Whether you are applying for a Federal, state, or local government benefit, you may need to provide the government agency with documents that show you are covered under TPS and/or show you are authorized to work based on TPS. Examples of such documents are:

• Your new EAD with a category code of A12 or C19; or

• A copy of your Form I-94, Arrival/Departure Record or Form I-797, the notice of approval, for your Form I-821, if you received one from USCIS.

Check with the government agency regarding which document(s) the agency will accept.

Some benefit-granting agencies use the SAVE program to confirm the current immigration status of applicants for public benefits. SAVE can verify when an individual has TPS based on the documents above. In most cases, SAVE provides an automated electronic response to benefit-granting agencies within seconds, but occasionally verification can be delayed. You can check the status of your SAVE verification by using CaseCheck at uscis.gov/save/save-casecheck, then by clicking the “Check Your Case” button. CaseCheck is a free service that lets you follow the progress of your SAVE verification using your date of birth and SAVE verification case number or an immigration identifier number that you provided to the benefit-granting agency. If an agency has denied your application based solely or in part on a SAVE response, the agency must offer you the opportunity to appeal the decision in accordance with the agency's procedures. If the agency has received and acted on or will act on a SAVE verification and you do not believe the response is correct, find detailed information on how to make corrections or update your immigration record, make an appointment, or submit a written request for information about correcting records on the SAVE website at www.uscis.gov/save.

[FR Doc. 2021-11075 Filed 5-24-21; 8:45 am]

BILLING CODE 9111-97-P